ENVIRONMENTAL PROTECTION AGENCY

[FRL-9916-34-OCFO]

Meeting of the Environmental Financial Advisory Board—Public Notice

AGENCY: Environmental Protection Agency.

ACTION: Notice of open meeting of the Environmental Financial Advisory Board.

SUMMARY: The Environmental Protection Agency's (EPA) Environmental Financial Advisory Board (EFAB) will hold a public meeting on October 28-29, 2014. EFAB is an EPA advisory committee chartered under the Federal Advisory Committee Act (FACA) to provide advice and recommendations to EPA on creative approaches to funding environmental programs, projects, and activities.

The purpose of this meeting is to hear from informed speakers on environmental finance issues, proposed legislation, and EPA priorities; to discuss activities, progress, and preliminary recommendations with regard to current EFAB work projects; and to consider requests for assistance from EPA offices.

Environmental finance discussions and presentations are expected on the following topics:

Small Water Systems in Puerto Rico; Financing Small Community/Rural Brownfields Site Remediation; Certified Green Bonds; Leveraging Technology and Finance; and Financial Capability Assessment Framework.

The meeting is open to the public; however, seating is limited. All members of the public who wish to attend the meeting must register in advance no later than Friday, October 17, 2014.

DATES: The full board meeting will be held on Tuesday, October 28, 2014 from 1:00 p.m. to 5 p.m., EST and Wednesday, October 29, 2014 from 9:00 a.m. to 5 p.m., EST.

ADDRESSES: Corporation for Enterprise Development (CFED), 1200 G Street NW., Suite 400, Washington, DC 20005.

FOR FURTHER INFORMATION CONTACT: For information on access or services for individuals with disabilities, or to request accommodations for a person with a disability, please contact Sandra Williams, EPA, at (202) 564-4999 or williams.sandra@epa.gov, at least 10 days prior to the meeting, to allow as much time as possible to process your request.

Dated: August 28, 2014.
David Bloom,
Acting Deputy Chief Financial Officer.

[FR Doc. 2014-21293 Filed 9-5-14; 8:45 am]

BILLING CODE 6560-50-P